DEPARTMENT OF HOMELAND SECURITY

Transportation Security Administration

Intent To Request Renewal From OMB of One Current Public Collection of Information: Transportation Security Officer (TSO) Medical Questionnaire

AGENCY: Transportation Security Administration (TSA), DHS.

ACTION: 60-Day Renewal Notice.

SUMMARY: The Transportation Security Administration (TSA) invites public comment on one currently approved Information Collection Request (ICR), OMB control number 1652-0032, abstracted below, that we will submit to the Office of Management and Budget (OMB) for renewal in compliance with the Paperwork Reduction Act. The ICR describes the nature of the information collection and its expected burden. The collection involves using a questionnaire to collect medical information from candidates for the job of Transportation Security Officer (TSO) to ensure their qualifications to perform TSO duties pursuant to 49 U.S.C 44965. In certain cases, TSO candidates' health care providers may be asked to complete supplemental forms.

DATES: Send your comments by February 28, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Number 1652-0032; TSO Medical Questionnaire.

TSA currently collects relevant medical information from Transportation Security Officer (TSO) candidates who successfully complete the steps in the hiring process leading up to the medical portion. This information is used to assess whether the candidates meet the medical qualification standards the agency has established pursuant to 49 U.S.C. 44935. TSA collects this information through a medical questionnaire completed by TSO candidates and, in certain cases, supplemental forms completed by TSO candidates' health care providers. The medical questionnaire and supplemental forms are used to evaluate a candidate's physical and medical qualifications to be a TSO, including visual and aural acuity, and physical coordination and motor skills.

Candidates who disclose certain medical conditions on the medical questionnaire may be asked to have their health care provider complete one or more supplemental forms. These supplemental forms pertain to particular body systems and medical conditions, including cardiac, orthopedic, endocrine, vitals, and others; the type of supplemental form(s) completed by a candidate's health care provider depend(s) on the condition(s) revealed during a candidate's initial medical evaluation and disclosed on the initial medical questionnaire. For example, a candidate who discloses a previous back injury may be required to have his/her health care provider complete a supplemental form to enable the agency to better evaluate whether the candidate can perform the TSO job safely and efficiently without excessive risk of accident or injury to himself/herself or others. Historical data indicate that approximately 30 percent of candidates reaching the medical evaluation will be required to complete one or more further evaluation forms.

TSA estimates that the potential annual respondent population for this collection of information will be 19,175 candidates and health care providers. This number includes 14,750 candidates and 4,425 health care providers, nationwide. TSA estimates the total annual hour burden as a result of the TSO medical questionnaire and supplemental forms to be 11,677 hours.

Issued in Arlington, Virginia, on December 23, 2011.
Joanna Johnson,
Paperwork Reduction Act Officer, Office of Information Technology.

[FR Doc. 2011-33520 Filed 12-29-11; 8:45 am]

BILLING CODE 9100-05-P